DEPARTMENT OF COMMERCE

National Oceanic and Atmospheric Administration

50 CFR Part 660

RIN 0648-BB27

Pacific Coast Groundfish; Public Hearing Notice; Secretarial Fishery Management Plan Amendment 1

AGENCY: National Marine Fisheries Service (NMFS), National Oceanic and Atmospheric Administration (NOAA), Commerce.

ACTION: Hearing notice.

SUMMARY: The National Marine Fisheries (NMFS) in cooperation with the Pacific Fishery Management Council (PFMC) will be holding a hearing regarding the Secretarial Amendment 1 (previously Amendment 16-5) to the Pacific Coast Groundfish Fishery Management Plan (FMP). Secretarial Amendment 1 proposes to establish one new rebuilding plan, modify seven existing plans, modify the default proxy values for FMSY and BMSY as they apply to the flatfish species, and the harvest control rule policies.

DATES: The PFMC meeting will be held September 12-19, 2011, and the hearing is scheduled for Thursday, September 15, 2011.

ADDRESSES: The PFMC Meeting will be held at the San Mateo Marriott, 1770 South Amphlett Boulevard, San Mateo, CA 94402.

NMFS Address: 7600 Sand Point Way, NE., Seattle, WA 98115.

FOR FURTHER INFORMATION CONTACT: Sarah Williams, 206-526-4646.

SUPPLEMENTARY INFORMATION: A public hearing will be held on September 15, 2011, to receive comments on the proposed Secretarial Amendment 1. For more information on the Council meeting please see the meeting notice which published in the Federal Register on August 26, 2011 (76 FR 53414). Written and oral comments received at the public hearing will be taken into consideration by NMFS when making its final decision on the Amendment.

Special Accommodations

The meetings are physically accessible to people with disabilities. Requests for sign language interpretation or other auxiliary aids should be directed to Ms. Carolyn Porter at (503) 820-2280 (voice), or (503) 820-2299 (fax) at least 5 days prior to the meeting date.

Dated: August 31, 2011.
James P. Burgess,
Acting Director, Office of Sustainable Fisheries, National Marine Fisheries Service.

[FR Doc. 2011-22746 Filed 9-6-11; 8:45 am]

BILLING CODE 3510-22-P